DEPARTMENT OF THE INTERIOR

Fish and Wildlife Service

Information Collection To Be Submitted to the Office of Management and Budget (OMB) for Approval Under the Paperwork Reduction Act; OMB Control Number 1018-0022, Federal Fish and Wildlife Permit Applications and Reports, Migratory Birds and Eagles

AGENCY: Fish and Wildlife Service.

ACTION: Notice, request for comments.

SUMMARY: The U.S. Fish and Wildlife Service has submitted the collection of information described below to OMB for approval under the provisions of the Paperwork Reduction Act of 1995. A description of the information collection requirement is included in this notice. If you wish to obtain copies of information collection requirements, related forms, or explanatory material, contact the Service Information Collection Clearance Officer at the address or telephone number listed below.

DATES: OMB has up to 60 days to approve or disapprove information collection but may respond after 30 days. Therefore, to ensure maximum consideration, you must submit comments on or before June 2, 2004.

ADDRESSES: Submit your comments on this information collection renewal to the Desk Officer for the Department of the Interior at OMB-OIRA via facsimile using the following fax number: (202) 395-6566 (fax); or by electronic mail to OIRA_DOCKET@omb.eop.gov. Please provide a copy of your comments to the Fish and Wildlife Service's Information Collection Clearance Officer by mail, fax, or email: 4401 N. Fairfax Dr., MS 222 ARLSQ, Arlington, VA 22203; (703) 358-2269 (fax); anissa_craghead@fws.gov.

FOR FURTHER INFORMATION CONTACT: To request a copy of the information collection request, explanatory information, or related forms, contact Anissa Craghead, Information Collection Clearance Officer, at 703-358-2445 or electronically to anissa_craghead@fws.gov, or Susan Lawrence at 703-358-2016 or SusanM_Lawrence@fws.gov.

SUPPLEMENTARY INFORMATION: The Office of Management and Budget (OMB) regulations at 5 CFR part 1320, which implement provisions of the Paperwork Reduction Act of 1995 (44 U.S.C. 3501 et seq.), require that interested members of the public and affected agencies have an opportunity to comment on information collection and recordkeeping activities (see 5 CFR 1320.8(d)). We have submitted a request to OMB to renew approval of a collection of information for the Service's permit application forms, and related report forms, for migratory bird and eagle permits.

Our request to OMB asks for its approval of the collection of information for: (1) The Service's permit application form numbers 3-200-6 through 3-200-18, and 3-200-67 through 3-200-70; report forms 3-202-1 through 3-202-9; and forms 3-186 and 3-186A, which are all currently approved under OMB control number 1018-0022; (2) the addition of form 3-200-10b(sup.) and forms 3-202-10 through 3-202-12; and (3) the deletion of form 3-200-14b. We are requesting a 3-year term of approval for this information collection activity.

A previous 60-day notice on this information collection requirement was published in the November 13, 2003, Federal Register (68 FR 64362) inviting public comment. In addition to publishing the Federal Register notice, we asked certain migratory bird or eagle permittees to review forms relating to the permits they hold and comment on the clarity and relevance of the information collection, the burden associated with the collection, and whether there is something the Service could do to minimize the burden. Comments were received on the Federal Register notice and from the permittees we contacted from a total of 14 individuals and one organization, the Ornithological Council. As a result of the comments, numerous revisions were made to the applications, instructions, and report forms. In addition, several items of information previously collected or proposed for collection on annual reports were reassessed by the Service and eliminated. The Disposition information requirement was eliminated from the scientific collecting annual report (3-202-2) and certain information about programs given and attendees was eliminated from the special purpose possession annual report (3-202-5), which will reduce the burden on holders of these permits. As a result, the time burden was adjusted for several forms. Finally, in response to comments, the Service will not finalize the proposed Donation to Public Museum form.

The Ornithological Council suggested that the number of applications be reduced to one for migratory birds and one for eagles, with a check-off list of the activities proposed to be conducted. The Service disagrees that this would benefit applicants. Many different types of permits are authorized under the Migratory Bird Treaty Act (MBTA) (16 U.S.C. 704) and the Bald and Golden Eagle Act (BGEPA) (16 U.S.C. 668) regulations (50 CFR parts 21 and 22, respectively), as well as other permit regulations, each with different application requirements and issuance criteria. The vast majority of permittees request a permit for a single type of activity, such as taxidermy, falconry, or scientific collecting. The Service has developed a variety of activity-specific application forms for the express purpose of reducing the paperwork burden on applicants and simplifying application requirements. Tailoring application forms to specific types of activities makes it easier for an applicant to understand the information required for the Service to issue a permit under any particular regulatory provision and to complete the application with minimal confusion. A single application form addressing all activities allowed under a given statute would be extremely confusing for applicants and result in a greater public burden. However, in response to this comment, we consolidated the eagle scientific research application (3-200-14b) into the migratory bird scientific collecting application (3-2007), and we also added to this application the ability to request authorization to import or export migratory bird specimens (except eagles) for scientific purposes. This will eliminate the need for scientific collecting applicants to refer to those applications to request this additional authorization. These revisions will streamline application requirements for scientists.

This notice provides an additional 30 days in which to comment on the information collection.

All of these forms are used by the Regional Migratory Bird Permit Offices. Federal agencies may not conduct or sponsor, and a person is not required to respond to, a collection of information unless it displays a currently valid OMB control number. The OMB control number for this collection of information is 1018-0022.

The information obtained from the applications and report forms will be used by the Service to determine eligibility of applicants for permits they are requesting according to criteria in various Federal wildlife conservation laws, international treaties, and regulations on the issuance, suspension, revocation, or denial of permits, to monitor permit compliance, and to track species taken from the wild.

The information collection requirements in this submission implement the regulatory requirements of the Endangered Species Act (16 U.S.C. 1539), the MBTA (16 U.S.C. 704), the Lacey Act (18 U.S.C. 42-44), the BGEPA (16 U.S.C. 668), the Convention on International Trade in Endangered Species of Wild Fauna and Flora (CITES) (27 UST 108), and are contained in Service regulations in Chapter I, Subchapter B of Title 50 Code of Federal Regulations (CFR). Generic permit application and record keeping requirements shared by our permit-issuing offices have been consolidated in 50 CFR part 13.

OMB Control Number: 1018-0022.

Title: Federal Fish and Wildlife Permit Applications and Report Forms, Migratory Birds and Eagles (50 CFR 13, 21, 22, 23).

Service Form Numbers: 3-200-6 through 3-200-18, 3-200-67 through 3-200-70, 3-202-1 through 3-202-12, 3-186, 3-186A.

Description of Respondents: Individuals; zoological parks; museums; universities; scientists; wildlife rehabilitators, educators, taxidermists; businesses; and State, local, Tribal and Federal governments.

Frequency of Collection: On occasion.

Total Annual Responses: 49,910.

Total Annual Burden Hours: 35,455.

We invite comments concerning this information collection on: (1) Whether the collection of information is necessary for the proper performance of our functions, including whether the information will have practical utility; (2) the accuracy of our estimate of the burden of the collection of information; (3) ways to enhance the quality, utility, and clarity of the information to be collected; and, (4) ways to minimize the burden of the collection of information on respondents. This information collection is part of a system of records covered by the Privacy Act (5 U.S.C. 552(a)).

Dated: March 23, 2004.
Anissa Craghead,
Information Collection Clearance Officer, Fish and Wildlife Service.

[FR Doc. 04-10008 Filed 4-30-04; 8:45 am]

BILLING CODE 4310-55-P